DEPARTMENT OF TRANSPORTATION

Federal Aviation Administration

14 CFR Part 39

[Docket No. FAA-2007-29060; Directorate Identifier 2007-NE-34-AD]

RIN 2120-AA64

Airworthiness Directives; International Aero Engines (IAE)

AGENCY: Federal Aviation Administration (FAA), Department of Transportation (DOT).

ACTION: Supplemental notice of proposed rulemaking (NPRM); reopening of comment period.

SUMMARY: This supplemental NPRM revises an earlier proposed airworthiness directive (AD) applicable to IAE V2500-A1, V2527E-A5, V2527M-A5, V2528-D5, V2530-A5, and V2533-A5 turbofan engines. That proposed AD would have required a one-time inspection of certain vortex reducers for cracks, and replacing the reducer and high-pressure (HP) compressor stage 3-8 drum if the reducer is cracked. That proposed AD resulted from reports of fractured vortex reducers found at shop visits. This supplemental NPRM revises the proposed AD to add four engine models and four additional part numbers of HP compressor stage 3-8 drums to the applicability requirement. This proposed AD results from the manufacturer's latest service information containing engine models and drum assembly P/Ns that were not specified in the proposed AD. We are proposing this AD to inspect for cracks in the vortex reducer. Cracks in the vortex reducer could result in an uncontained failure of the HP compressor stage 3-8 drum and subsequent damage to the airplane.

DATES: We must receive any comments on this proposed AD by February 22, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You can get the service information identified in this proposed AD from International Aero Engines, 400 Main St., East Hartford, CT 06108; telephone (860) 565-5515, fax (860) 565-0600.

FOR FURTHER INFORMATION CONTACT: Kevin Dickert, Aerospace Engineer, Engine Certification Office, FAA, Engine & Propeller Directorate, 12 New England Executive Park, Burlington, MA 01803; e-mail: kevin.dickert@faa.gov; telephone (781) 238-7117; fax (781) 238-7199.

SUPPLEMENTARY INFORMATION:

Comments Invited

We invite you to send us any written relevant data, views, or arguments regarding this proposal. Send your comments to an address listed under ADDRESSES. Include “Docket No. 2007-29060; Directorate Identifier 2007-NE-34-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

On April 27, 2009, we issued a proposal to amend part 39 of the Code of Federal Regulations (14 CFR part 39) to add an AD applicable to IAE V2500-A1, V2527E-A5, V2527M-A5, V2528-D5, V2530-A5, and V2533-A5 turbofan engines. The proposed AD published as an NPRM in the Federal Register on April 30, 2009 (74 FR 19904). That NPRM proposed to require a one-time fluorescent penetrant inspection of certain vortex reducers for cracks. This condition, if not corrected, could result in an uncontained failure of the HP compressor stage 3-8 drum and subsequent damage to the airplane.

Since we issued that NPRM, IAE has informed us that IAE Alert Service Bulletin (ASB) V2500-ENG-72-A0510, Revision 2, dated December 19, 2007, contains additional engine models and HP compressor Stage 3 to 8 drum P/Ns that must be inspected. Because we expanded the population of affected engines by adding the V2522-A5, V2524-A5, V2525-D5, and V2527-A5 engine models and HP compressor stage 3 to 8 drums, P/Ns 6A4900, 6A7383, 6A7384, and 6A7385, this supplemental NPRM reopens the comment period to include the additional engine models and drum P/Ns.

Comments

We provided the public the opportunity to participate in the development of this proposed AD. We have considered the comments received.

Request To Add Additional Part Numbers and Engine Models

One commenter, IAE, asks us to add to the applicability of the proposed AD, additional part numbers (P/Ns) for the HP compressor stage 3 to 8 drum, and additional IAE engine models that were not included in the NPRM.

The commenter states that we need to make the AD applicable to the additional P/Ns and engine models to ensure that the proposed AD covers all affected parts.

We agree. We have added P/Ns 6A4900, 6A7383, 6A7384, and 6A7385; and IAE engine models V2522-A5, V2524-A5, V2525-D5, V2527-A5 turbofan engines to the applicability.

Request To Revise Costs of Compliance Section

One commenter, Air Transport Association, asks us to revise the Costs of Compliance section to include six engines operated by Delta Airlines.

We agree. We have changed the Costs of Compliance section to include the six engines operated by Delta, and provided an estimated total cost to the fleet.

Relevant Service Information

We have reviewed and approved the technical contents of IAE ASB V2500-ENG-72-0510, Revision 2, dated December 19, 2007, that describes procedures for inspecting the vortex reducer for cracks.

FAA's Determination and Requirements of the Proposed AD

We evaluated all pertinent information and identified an unsafe condition that is likely to exist or develop on other products of this same type design. We are proposing this AD, which will require a one-time fluorescent penetrant inspection of certain vortex reducers for cracks.

Costs of Compliance

We estimate that this proposed AD would affect six IAE turbofan engines installed on airplanes of U.S. registry. We also estimate that it would take about 1 work-hour per engine to perform the proposed actions, and that the average labor rate is $80 per work-hour. No parts are required. Based on these figures, we estimate the total cost of the proposed AD to U.S. operators to be $480.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

International Aero Engines: Docket No. FAA-2007-29060; Directorate Identifier 2007-NE-34-AD.

Comments Due Date

(a) The Federal Aviation Administration (FAA) must receive comments on this airworthiness directive (AD) action by February 22, 2010.

Affected ADs

(b) None.

Applicability

(c) This AD applies to International Aero Engines (IAE) V2500-A1, V2522-A5, V2524-A5, V2525-D5, V2527-A5, V2527E-A5, V2527M-A5, V2528-D5, V2530-A5, and V2533-A5 turbofan engines with high-pressure (HP) compressor stage 3-8 drums, part numbers (P/Ns) 6A4900, 6A5467, 6A6473, 6A7383, 6A7384, 6A7385, and 6A7401, installed. These engines are installed on, but not limited to, Airbus A319, A320, and A321 series airplanes and Boeing MD-90 airplanes.

Unsafe Condition

(d) This AD results from reports of fractured vortex reducers found at shop visits. We are issuing this AD to inspect for cracks in the vortex reducer. Cracks in the vortex reducer could result in an uncontained failure of the HP compressor stage 3-8 drum and subsequent damage to the airplane.

Compliance

(e) You are responsible for having the actions required by this AD performed within the compliance times specified unless the actions have already been done.

One-Time Fluorescent Penetrant Inspection

(f) Fluorescent penetrant inspect the vortex reducer for cracks when the HPC stage 3-8 drum has between 3,000 and 13,500 cycles-since-new (CSN) if all of the following conditions also apply:

(1) The HPC stage 3-8 drum has ever operated in an engine at the V2527E-A5, V2527M-A5, V2528-D5, V2530-A5, or V2533-A5 thrust ratings,

(2) The vortex reducer had cycles accumulated on it when mated with the HPC stage 3-8 drum, and

(3) The HPC stage 3-8 drum had fewer than 3,000 CSN when mated to the vortex reducer.

(g) If the vortex reducer is cracked, remove both the vortex reducer and the HPC stage 3-8 drum from service.

(h) After the effective date of this AD, do not return to service any HPC stage 3-8 drum that was removed as specified in paragraph (g) of this AD.

Alternative Methods of Compliance

(i) The Manager, Engine Certification Office, has the authority to approve alternative methods of compliance for this AD if requested using the procedures found in 14 CFR 39.19.

Related Information

(j) Contact Kevin Dickert, Aerospace Engineer, Engine Certification Office, FAA, Engine & Propeller Directorate, 12 New England Executive Park, Burlington, MA 01803; e-mail: kevin.dickert@faa.gov; telephone (781) 238-7117; fax (781) 238-7199, for more information about this AD.

Peter A. White,
Assistant Manager, Engine and Propeller Directorate, Aircraft Certification Service.

[FR Doc. E9-30508 Filed 12-22-09; 8:45 am]

BILLING CODE 4910-13-P